COURT SERVICES AND OFFENDER SUPERVISION AGENCY

Privacy Act of 1974; System of Records

AGENCY: Court Services and Offender Supervision Agency.

ACTION: Notice of a new system of records.

SUMMARY: Pursuant to the provisions of the Privacy Act of 1974, as amended, the Pretrial Services Agency for the District of Columbia (an independent entity established within the Court Services and Offender Supervision Agency (hereafter “CSOSA” or “Agency”)) is issuing a public notice of its intent to create the Pretrial Services Agency for the District of Columbia Privacy Act system of records, the “Employee Religious Exception Request Information System.” This system of records maintains personal religious information collected in response to religious accommodation requests for religious exception from the federally mandated vaccination requirement in the context of a public health emergency or similar health and safety incident, such as a pandemic, epidemic, natural disaster or national or regional emergency; and/or any other lawful collection of employee information or data that is necessary to ensure a safe and healthy environment for individuals who are occupying PSA facilities, attending PSA-sponsored events, or otherwise engaged in official business on behalf of the Agency. The system of records will assist the Agency in the collection, storing, dissemination, and disposal of employee religious exemption request information collected and maintained by the Agency, as referenced above.

DATES: This new system will be effective upon publication. New or modified routine uses will be effective February 10, 2022. Submit comments on or before February 10, 2022.

ADDRESSES: You may send comments identified any of the following methods:

• Federal eRulemaking Portal: https://www.regulations.gov. Follow the instructions for sending comments. The system of records will assist the Agency in the collection, storing, dissemination, and disposal of employee religious exception request information collected and maintained by the Agency, as referenced above.

• Email: sheila.stokes@csosa.govpsa.gov.

• U.S. mail or hand-delivery: Office of General Counsel, 800 North Capitol Street NW, Suite 702, Washington, DC 20001

Instructions: All submissions received must include the agency name. All comments received will be posted without change to http://www.regulations.gov, including any personal information provided.

Docket: For access to the docket to read background documents or comments received, go to http://www.regulations.gov.

FOR FURTHER INFORMATION CONTACT: Sheila Stokes, Senior Agency Official for Privacy, 800 North Capitol Street NW, 7th Floor, Washington, DC 20002, sheila.stokes@csosa.gov or phone number (202) 220-5797.

SUPPLEMENTARY INFORMATION:

I. Background

On September 9, 2021, the President issued Executive 14043, Executive Order on Requiring Coronavirus Disease 2019 Coronavirus Disease 2019 Vaccination for Federal Employees, requiring the COVID-19 vaccination for all Federal employees, subject to such exceptions as required by law. On October 4, 2021, the Safer Federal Workforce Task Force (“Task Force”) issued guidance to Federal agencies regarding collecting information for medical and religious accommodations. In order to meet the requirements of Executive Order 14043 and the Task Force recommendations, PSA is creating this system of records notice to permit the collection of information related to religious accommodations to the vaccination requirement. PSA maintains the “Employee Religious Exception Request Information System” in a secured electronic file repository. PSA is committed to providing all staff (employees, detailees, contractors, consultants, interns, applicants, and volunteers), visitors, and occupants of its facilities with a safe and healthy environment. To ensure and maintain the safety of all occupants during standard operations and public health emergencies or similar health and safety incidents, such as a pandemic, epidemic, natural disasters or national and regional emergency, PSA may develop and institute additional safety measures that require the collection of employee religious exception information from the federally mandated vaccination requirement. PSA is also committed to complying with the Federal employee COVID-19 vaccination requirement established by Executive 14043 unless the employee presents appropriate information in support of a legally-required exception.

PSA will collect religious accommodation requests for PSA staff (including employees, detailees, contractors, consultants, interns, and volunteers). Information will be collected, maintained, and disclosed in accordance with applicable law, regulations, and statutes, including, but not limited to, the authorities referenced herein. This newly established system will be included in the PSA inventory of record systems.

II. Privacy Act

The Privacy Act of 1974, as amended, embodies fair information practice principles in a statutory framework governing the means by which Federal agencies collect, maintain, use, and disseminate individuals' records. The Privacy Act applies to records about individuals that are maintained in a “system of records.” A “system of records” is a group of any records under the control of an agency from which information is retrieved by the name of an individual or by some identifying number, symbol, or other identifier particularly assigned to the individual. The Privacy Act defines an individual as a United States citizen or lawful permanent resident. Individuals may request access to their own records that are maintained in a system of records in the possession or under the control of PSA by complying with Privacy Act regulations at 43 CFR part 2, subpart K, and following the procedures outlined in the Records Access, Contesting Record, and Notification Procedures sections of this notice.

The Privacy Act requires all federal Executive Branch agencies to publish in the Federal Register a description denoting the existence and character of each system of records that the agency maintains, and the routine uses of each system. The “Employee Religious Exception Request Information System” system of records notice is published in its entirety below. In accordance with 5 U.S.C. 552a(r), PSA [through CSOSA] has provided a report of this system of records to the Office of Management and Budget and to Congress.

III. Public Participation

You should be aware your entire comment including your personally identifiable information, such as your address, phone number, email address, or any other personal information in your comment, may be made publicly available at any time. While you may request to withhold your personally identifiable information from public review, we cannot guarantee we will be able to do so.

SYSTEM NAME:

PSA, Employee Religious Exception Request Information System.

SECURITY CLASSIFICATION:

Unclassified.

SYSTEM LOCATION:

This system is hosted in a facility maintained by the Court Services and Offender Supervision Agency at 800 North Capitol Street NW, 7th Floor, Washington, DC 20004.

SYSTEM MANAGER(S) AND ADDRESS:

The system is maintained by the Pretrial Services Agency for the District of Columbia Office of Information Technology located at 601 Indiana Avenue NW, Washington, DC 20004.

AUTHORITY FOR MAINTENANCE OF THE SYSTEM:

The authority to collect this information derives from 5 U.S.C. 8474, 5 U.S.C. 301, 42 U.S.C. 2000e et seq., 42 U.S.C. 2000bb et seq., 44 U.S.C. 3101, Executive Order 13164 (July 28, 2000), and Executive Order 13548 (July 10, 2021).

PURPOSE(S) OF THE SYSTEM:

The primary purpose of the secured electronic file repository is to collect, maintain, use, and—to the extent appropriate and necessary—disseminate employee religious exception request information collected by the Agency in the context of the federally mandated COVID-19 vaccination requirement. The purpose of the secured electronic file repository is also to comply with Executive Order 14043 and applicable implementation guidance. PSA will use the information in processing religious accommodation requests and to determine the appropriate health and safety protocols for employees in the context of the federally mandated COVID-19 vaccination. The secured electronic file repository enables PSA to log, track, and manage employee religious exception request information while leveraging technology to protect and secure the privacy of the records maintained in the system

CATEGORIES OF INDIVIDUALS COVERED BY THE SYSTEM:

Individuals covered include but are not limited to PSA employees, detailees, contractors, consultants, interns, applicants, and volunteers.

CATEGORIES OF RECORDS IN THE SYSTEM:

The employee religious exception request information and records may contain some or all of the following records: Religious accommodation requests, including Request for a Religious Exception to the COVID-19 Vaccination Requirement form, notes, religious affiliation, or records made during consideration of requests, and decisions on requests. These records may contain general personal data, including but not limited to the employee's, detailee's, contractor's, consultant's, intern's, applicant's or volunteer's name, date of birth, religion, alias, home address, telephone number, age, and email address, telephone number, job title, email address, work address, and program office to which the employee is assigned.

RECORD SOURCE CATEGORIES:

Records in this system are obtained directly from the employee, detailee, contractor, consultant, intern, applicant, and volunteer, therefore, the accuracy is ensured by collecting the information from the source who may be required to certify under penalty of perjury that the information is true and accurate to the best of their knowledge.

ROUTINE USES OF RECORDS MAINTAINED IN THE SYSTEM INCLUDING CATEGORIES OF USERS AND THE PURPOSES OF SUCH USES:

In addition to those disclosures generally permitted under 5 U.S.C. 552a (b) of the Privacy Act, all or a portion of the records or information contained in this system may be disclosed outside PSA as a routine use pursuant to 5 U.S.C. 552a (b)(3) as follows:

A. To the appropriate Federal, State, or local agency responsible for investigating, prosecuting, enforcing, or implementing a statute, rule, regulation, or order, where alone or in conjunction with other information, a violation or potential violation of a civil or criminal law or regulation is indicated.

B. To a Member of Congress or his or her staff on behalf of and at the request of the individual who is the subject of the record.

C. To another Federal agency or a party in litigation before a court or in an administrative proceeding being conducted by a Federal agency, when the Government is a party to the judicial or administrative proceeding, and such information is the subject of a court order directing disclosure or deemed by PSA to be relevant and necessary to the litigation.

D. To the National Archives and Records Administration in records management and inspections.

E. By PSA, in the production of summary descriptive statistics and analytical studies in support of the function for which the records are collected and maintained, or for related workforce studies. While published statistics and studies do not contain individual identifiers, in some instances, the selection of elements of data included in the study may be structured in such a way as to make the data individually identifiable by inference.

F. To disclose information to the Department of Justice or in a proceeding before a court, adjudicative body, or other administrative body before which CSOSA is authorized to appear, when:

1. PSA, or any component thereof; or

2. Any employee of PSA in his or her official capacity; or

3. Any employee of PSA in his or her individual capacity where the Department of Justice or PSA has agreed to represent the employee; or the United States, when PSA determines that litigation is likely to affect PSA or any of its components, is a party to litigation or has an interest in such litigation, and the use of such records by the Department of Justice or PSA is deemed by PSA to be relevant and necessary to the litigation.

G. To disclose information to officials of the Merit Systems Protection Board or the Office of the Special Counsel, when requested in connection with appeals, special studies of the civil service and other merit systems, review of OPM rules and regulations, investigations of alleged or possible prohibited personnel practices, and such other functions as promulgated in 5 U.S.C. 1205 and 1206, or as may be authorized by law.

H. To disclose information to the U.S. Equal Employment Opportunity Commission (“EEOC”) when requested in connection with investigations into alleged or possible discrimination practices in the Federal sector, examination of Federal affirmative employment programs, compliance by Federal agencies with the Uniform Guidelines of Employee Selection Procedures, or other functions vested in the Commission.

I. To disclose information to the Federal Labor Relations Authority or its General Counsel when requested in connection with investigations of allegations of unfair labor practices of matters before the Federal Service Impasses Panel.

J. To authorized contractors, vendors, grantees, or volunteers performing or working on a contract, service, grant, cooperative agreement, or job for PSA or the Federal government that is in the performance of an official Federal duty relative to which the information is deemed relevant.

K. To an appeal, grievance, hearing, or complaints examiner; an equal opportunity investigator, arbitrator, or mediator; and an exclusive representative or other person authorized to investigate or settle a grievance, complaint, or appeal filed by an individual who is the subject of the record.

L. For Data Breach and Mitigation Response to provide information to appropriate agencies, entities, and persons when;

(1) PSA suspects or has confirmed that there has been a breach of the system of records; (2) PSA has determined that as a result of the suspected or confirmed breach there is a risk of harm to individuals, PSA (including its information systems, programs, and operations), the Federal Government, or national security; and (3) the disclosure made to such agencies, entities, and persons is reasonably necessary to assist in connection with PSA's efforts to respond to the suspected or confirmed breach or to prevent, minimize, or remedy such harm.

M. To provide information to another Federal agency or Federal entity, when PSA determines that information from this system of records is reasonably necessary to assist the recipient agency or entity in (1) responding to a suspected or confirmed breach, or (2) preventing, minimizing, or remedying the risk of harm to individuals, the recipient agency or entity (including its information systems, programs and operations), the Federal Government, or national security, resulting from a suspected or confirmed breach.

DISCLOSURE TO CONSUMER REPORTING AGENCIES:

None.

POLICIES AND PRACTICES FOR STORAGE OF RECORDS:

Records in this system of records are stored electronically. Electronic records are stored on CSOSA's secure network or cloud-based software using the Federal Risk and Authorization Management Program (FedRAMP) approved platform.

POLICIES AND PRACTICES FOR RETRIEVAL OF RECORDS:

Information covered by this system of records notice may be retrieved by the name of the individual.

POLICIES AND PRACTICES FOR RETENTION AND DISPOSAL OF RECORDS:

PSA will work as may be necessary with the National Archives and Records Administration (NARA) to draft and secure approval of a records disposition schedule to cover the records described in this SORN, to the extent records pertaining to religious accommodation have not already been scheduled. Until any such records disposition schedule is approved by NARA, PSA will maintain, and not destroy, these records.

ADMINISTRATIVE, TECHNICAL AND PHYSICAL SAFEGUARDS:

Records are protected from unauthorized access and improper use through administrative, technical, and physical security measures. Administrative safeguards within PSA include annual information security, privacy and record management training that are in place to ensure the records are not accessed, used or disclosed in an unauthorized manner. Technical security safeguards within PSA include restrictions on computer access to authorized individuals who have a legitimate need to know the information; required use of strong passwords that are frequently changed; multi-factor authentication for remote access and access to many CSOSA network components; use of encryption for certain data types and transfers; firewalls and intrusion detection applications; and regular review of security procedures and best practices to enhance security. Physical safeguards include restrictions on building access to authorized individuals, security guard service, maintenance of records in lockable offices and filing cabinets.

RECORD ACCESS PROCEDURES:

Individuals requesting access to their individual records should send a signed, written inquiry to the System Manager identified above.

CONTESTING RECORD PROCEDURES:

Individuals contesting the content of records about themselves contained in this system of records should follow the Notification Procedure below.

NOTIFICATION PROCEDURES:

Individuals requesting notification of the existence of records on themselves or requesting access to their individual records must send a signed, written inquiry to Sheila Stokes, Senior Agency Official for Privacy, 800 North Capitol Street NW, 7th Floor, Washington, DC 20002, sheila.stokes@csosa.gov or phone number (202) 220-5797. The request envelope (or subject line) and letter should both be clearly marked “PRIVACY ACT INQUIRY.” A request for notification must meet the requirements of 43 CFR 2.235.

EXEMPTIONS PROMULGATED FOR THE SYSTEM:

None.

HISTORY:

None.

Sheila Stokes,
General Counsel.

[FR Doc. 2021-28135 Filed 1-10-22; 8:45 am]

BILLING CODE 3129-04-P